DEPARTMENT OF TRANSPORTATION

Federal Aviation Administration

Office of Commercial Space Transportation: Notice of Availability and Request for Comment on the Draft Environmental Assessment for Issuing a Launch Operator License to Virgin Orbit, LLC for LauncherOne Operations From Andersen Air Force Base, Guam

AGENCY: Federal Aviation Administration (FAA), DOT.

ACTION: Notice of availability and request for comment.

SUMMARY: In accordance with the National Environmental Policy Act of 1969, as amended (NEPA), Council on Environmental Quality NEPA implementing regulations, and FAA Order 1050.1F, Environmental Impacts: Policies and Procedures, the FAA is announcing the availability of and requesting comment on the Draft Environmental Assessment for Issuing a Launch Operator License to Virgin Orbit, LLC for LauncherOne Operations from Andersen Air Force Base, Guam (Draft EA).

DATES: Comments must be received on or before November 16, 2020.

ADDRESSES: Comments should be mailed to Leslie Grey, Environmental Protection Specialist, Federal Aviation Administration, 800 Independence Avenue SW, Suite 325, Washington, DC 20591. Comments may also be submitted by email to VOLauncherOne@icf.com.

FOR FURTHER INFORMATION CONTACT: Leslie Grey, Environmental Protection Specialist, Federal Aviation Administration, 800 Independence Avenue SW, Suite 325, Washington, DC 20591; phone (907) 227-2113; email leslie.grey@faa.gov.

SUPPLEMENTARY INFORMATION: The FAA is evaluating Virgin Orbit, LLC's (VO's) proposal to conduct 747 carrier vehicle operations from Andersen Air Force Base (AFB), Guam and conduct LauncherOne rocket operations over the Pacific Ocean east of Guam for the purposes of transporting small satellites into a variety of low earth orbits, which would require the FAA to issue a launch license. Issuing a launch license is considered a federal action subject to environmental review under NEPA. Under the Proposed Action, the FAA would issue a launch license to VO, which will authorize VO to operate LauncherOne from Andersen AFB to conduct 25 launches over the next 5 years (2021-2025), with a maximum of 10 launches per year in any one year over the 5-year period.

Alternatives under consideration include the Proposed Action and No Action Alternative. Under the No Action Alternative, the FAA would not issue a launch license to VO for LauncherOne operations from Andersen AFB.

The Draft EA evaluates the potential environmental impacts from the Proposed Action and No Action Alternative on air quality; biological resources; climate; coastal resources; Department of Transportation Act Section 4(f); farmlands; hazardous materials, solid waste, and pollution prevention; historical, architectural, archeological, and cultural resources; land use; nature resources and energy supply; noise and noise-compatible land use; socioeconomics, environmental justice, and children's health and safety risks; visual effects (including light emissions); and water resources.

The FAA has posted the Draft EA on the FAA Office of Commercial Space Transportation website: https://www.faa.gov/space/environmental/nepa_docs/.

The FAA encourages all interested parties to provide comments concerning the scope and content of the Draft EA. Before including your address, phone number, email address, or other personal identifying information in your comment, be advised that your entire comment—including your personal identifying information—may be made publicly available at any time. While you can ask the FAA in your comment to withhold from public review your personal identifying information, the FAA cannot guarantee that we will be able to do so.

Issued in Washington, DC, on: October 13th, 2020.
Daniel Murray,
Manager, Safety Authorization Division.

[FR Doc. 2020-23099 Filed 10-16-20; 8:45 am]

BILLING CODE 4910-13-P